DEPARTMENT OF TRANSPORTATION

Federal Motor Carrier Safety Administration

[Docket Nos. FMCSA-2000-7165, FMCSA-2000-7363, FMCSA-2000-7918, FMCSA-2001-8398]

Qualification of Drivers; Exemption Applications; Vision

Correction

In notice document 03-6627 beginning on page 13360 in the issue of Wednesday, March 19, 2003 make the following correction:

On page 13361, in the second column, under the heading Exemption Decision, in the 26th line, “Boy E. Mathews” should read “Roy E. Mathews”.

[FR Doc. C3-6627 Filed 3-25-03; 8:45 am]

BILLING CODE 1505-01-D